DEPARTMENT OF ENERGY

Federal Energy Regulatory Commission

[Project No. 935-053]

PacifiCorp; Notice of Application and Applicant Prepared Environmental Assessment Tendered for Filing With the Commission, and Establishing Procedural Schedule for Relicensing and Deadline for Submission of Final Amendments

May 11, 2004.

Take notice that the following hydroelectric application has been filed with the Commission and is available for public inspection.

a. Type of Application: New major license.

b. Project No.: 935-053.

c. Date Filed: April 28, 2004.

d. Applicant: PacifiCorp.

e. Name of Project: Merwin Hydroelectric Project.

f. Location: On the North Fork Lewis River, in Clark and Cowlitz Counties, Washington. The project occupies 142.65 acres of Federal land administered by the Bureau of Land Management.

g. Filed Pursuant to: Federal Power Act 16 U.S.C. 791(a)-825(r).

h. Applicant Contact: Frank C. Shrier, Lead Project Manager, Hydro Licensing, PacifiCorp 825 NE. Multnomah Street, Suite 1500 Portland, Oregon 97232; telephone (503) 813-6622.

i. FERC Contact: Jon Cofrancesco at (202) 502-8951; or e-mail at jon.cofrancesco@ferc.gov.

j. Deadline for filing comments on the application: 60 days from the filing date shown in paragraph (c), or June 28, 2004.

All documents (original and eight copies) should be filed with: Magalie R. Salas, Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing process. The Commission strongly encourages electronic filing.

The Commission's rules of practice require all interveners filing documents with the Commission to serve a copy of that document on each person on the official service list for the project. Further, if an intervener files comments or documents with the Commission relating to the merits of an issue that may affect the responsibilities of a particular resource agency, they must also serve a copy of the document on that resource agency.

k. Cooperating Agencies: We are asking Federal, State, local, and tribal agencies with jurisdiction and/or special expertise with respect to environmental issues to cooperate with us in the preparation of the environmental document. Agencies who would like to request cooperating status should follow the instructions for filing comments described in item j above. Agencies granted cooperating status will be precluded from being an intervenor in this proceeding consistent with the Commission's regulations.

l. With this notice, we are initiating consultation with the Washington State Historic Preservation Officer (SHPO), as required by 106, National Historic Preservation Act, and the regulations of the Advisory Council on Historic Preservation, 36 CFR 800.4.

m. Status: This application has not been accepted for filing. We are not soliciting motions to intervene, protests, or final terms and conditions at this time.

n. The Project Description: The existing project consists of: (1) A 728-foot-long concrete radius arch dam; (2) a reservoir with a surface area of 4,040 acres at the normal maximum operating level (239.6 feet mean sea level); (3) a 1,462-foot-long diversion tunnel; (4) an intake structure; (5) three 150-foot-long penstocks; (6) a powerhouse, containing three 45 megawatt (MW) and one 1 MW generating units, having a total installed capacity of 136 MW; (8) a gated spillway; and (9) appurtenant facilities.

PacifiCorp operates the Merwin Project as a regulation facility in a coordinated manner with three upstream hydroelectric projects for the purposes of power generation, flood management, recreation, and downstream fish habitat enhancement. The project provides minimum instream flows to meet ramping requirements for the lower river. PacifiCorp does not propose any major modifications to project facilities or upgrades and proposes to implement various environmental measures at the project.

o. Locations of the Application: A copy of the application is available for review at the Commission in the Public Reference Room or may be viewed on the Commission's Web site at http://www.ferc.gov using the “eLibrary” link. Enter the docket number, excluding the last three digits in the docket number field (P-935), to access the document. For assistance, contact FERC Online Support at FERCOnlineSupport@ferc.gov or toll-free at 1-866-208-3676, or for TTY, (202) 502-8659. A copy is also available for inspection and reproduction at the address in item (h) above.

You may also register online at http://www.ferc.gov/esubscribenow.htm to be notified via email of new filings and issuances related to this or other pending projects. For assistance, contact FERC Online Support.

p. Procedural schedule and final amendments: The application will be processed according to the following Hydro Licensing Schedule. Revisions to the schedule may be made as appropriate.

Milestone | Target date
Issue acceptance or deficiency letter | July 2004.
Request additional information (if necessary) | July 2004.
Notice soliciting final terms and conditions | July 2004.
Notice of Draft NEPA Document | October 2004.
Notice of Final NEPA Document | February 2005.
Ready for Commission Decision on the Application | October 2005.

Final amendments to the application must be filed with the Commission no later than 30 days from the issuance date of the notice soliciting final terms and conditions.

Linda Mitry,
Acting Secretary.

[FR Doc. E4-1164 Filed 5-14-04; 8:45 am]

BILLING CODE 6717-01-P